DEPARTMENT OF ENERGY

Federal Energy Regulatory Commission

[Docket No. EC01-13-000, et al.]

Bangor Hydro-Electric Company, et al.; Electric Rate and Corporate Regulation Filings

November 8, 2000.

Take notice that the following filings have been made with the Commission:

1. Bangor Hydro-Electric Company and Emera Incorporated

[Docket No. EC01-13-000]

Take notice that on November 1, 2000, Bangor Hydro-Electric Company (Bangor Hydro) and Emera Incorporated (Emera) submitted for filing an application under section 203 of the Federal Power Act (16 U.S.C. § 824b) and Part 33 of the Commission's Regulations (18 CFR 33.1), seeking the Commission's approval and related authorizations to effectuate the merger between Bangor Hydro and Emera. Under the terms of the proposed merger, Emera will obtain all of the Bangor Hydro's outstanding shares of common stock, with Bangor Hydro to continue to provide service under its name as an Emera subsidiary.

Copies of the filing were served on the Maine Public Utilities Commission, as well as the Maine Public Advocate.

Comment date: December 29, 2000, in accordance with Standard Paragraph E at the end of this notice.

2. Wheelabrator Shasta Energy Company, Inc. and BTA Holdings, Inc.

[Docket No. EC01-15-000]

Take notice that on November 1, 2000, Wheelabrator Shasta Energy Company Inc. (Shasta Energy) and BTA Holdings, Inc. (BTA Holdings) tendered for filing pursuant to Section 203 of the Federal Power Act, 16 U.S.C. § 824b (1994), and Part 33 of the Commission's Regulations, 18 CFR part 33, an Application requesting Commission authorization for the proposed acquisition of the stock of Shasta Energy by BTA Holdings, which is indirectly 50% owned by each of Duke Energy Corporation and an individual.

Shasta Energy and BTA Holdings also request waiver of Section 33.2(g) of the Commission's regulations, as well as waiver of the requirement of Section 33.3 of the Commission's regulations to file Exhibits C, D, E, F and I. Shasta Energy and BTA Holdings further request privileged treatment for commercially sensitive information included in their Application.

A copy of this filing was served on the California Public Utilities Commission.

Comment date: November 22, 2000, in accordance with Standard Paragraph E at the end of this notice.

3. The AES Corporation, Inversiones Cachagua Limitada, and Mercury Cayman Co. III, Ltd.

[Docket No. EC01-17-000]

Take notice that on November 3, 2000, The AES Corporation, on behalf of two wholly-owned subsidiaries, Inversiones Cachagua Limitada and Mercury Cayman Co. III, Ltd. (collectively, Applicants), tendered for filing an application requesting all necessary authorizations under section 203 of the Federal Power Act (FPA), 16 U.S.C. § 824b (1996), for Applicants to acquire a partial ownership interest in Merchant Energy Group of the Americas, Inc., a power marketer and public utility under the FPA.

Comment date: November 24, 2000, in accordance with Standard Paragraph E at the end of this notice.

4. Lakefield Junction, L.P., Great River Energy

[Docket No. EC01-19-000]

Take notice that on November 2, 2000, Lakefield Junction, L.P. and Great River Energy tendered for filing an application under section 203 of the Federal Power Act for approval of the transfer of all the partnership interests in Lakefield Junction, L.P. to Great River Energy. Lakefield Junction, L.P. is a limited partnership organized under the laws of the State of Delaware for the purpose of developing, owning, and operating an approximately 550 MW electric generation facility near Trimont, Minnesota.

Comment date: November 24, 2000, in accordance with Standard Paragraph E at the end of this notice.

5. Panda Gila River, L.P.

[Docket No. ER01-353-000]

Take notice that on November 2, 2000, Panda Gila River, L.P. (Panda Gila River), 4100 Spring Valley, Suite 1001, Dallas, Texas 75244, tendered for filing in Docket No. ER00-1779 pursuant to 18 CFR 35.13 and § 131.53 of the Federal Energy Regulatory Commission's Rules and Regulations, a Notice of Cancellation to become effective November 3, 2000.

Panda Gila River states that it has never entered into any wholesale electric power or energy transactions, and has never utilized its Electric Rate Schedule FERC No. 1.

Comment date: November 22, 2000, in accordance with Standard Paragraph E at the end of this notice.

6. Natural Gas Trading Corporation

[Docket No. ER01-352-000]

Take notice that on November 2, 2000, Natural Gas Trading Corporation (NGTC), petitioned the Commission for acceptance of NGTC Rate Schedule FERC No.1; the granting of certain blanket approvals, including the authority to sell authority at market-based rates; and the waiver of certain Commission regulations.

NGTC intends to engage in wholesale electric power and energy purchases and sales as a marketer. NGTC is not in the business of generating or transmitting electric power.

Comment date: November 22, 2000, in accordance with Standard Paragraph E at the end of this notice.

7. Northern Indiana Public Service Company

[Docket No. ER01-351-000]

Take notice that on November 2, 2000, Northern Indiana Public Service Company (Northern Indiana), tendered for filing a Service Agreement pursuant to its Wholesale Market-Based Rate Tariff with Commonwealth Edison Company (Commonwealth Edison).

Northern Indiana has requested an effective date of October 10, 2000.

Copies of this filing have been sent to Commonwealth Edison, the Indiana Utility Regulatory Commission, and the Indiana Office of Utility Consumer Counselor.

Comment date: November 22, 2000, in accordance with Standard Paragraph E at the end of this notice.

8. American Electric Power Service Corporation

[Docket No. ER01-339-000]

Take notice that on November 2, 2000, American Electric Power Service Corporation (AEPSC), tendered for filing an executed Interconnection and Operation Agreement between Ohio Power Company and Big Sandy Peaker Plant, LLC. The agreement is pursuant to the AEP Companies' Open Access Transmission Service Tariff (OATT) that has been designated as the Operating Companies of the American Electric Power System FERC Electric Tariff Revised Volume No. 6, effective June 15, 2000.

AEP requests an effective date of September 21, 2000.

A Copy of the filing was served upon the Public Service Commission of West Virginia and the Virginia State Corporate Commission.

Comment date: November 22, 2000, in accordance with Standard Paragraph E at the end of this notice.

9. J. Aron & Company

[Docket No. ER01-340-000]

Take notice that on November 2, 2000, J. Aron & Company (J. Aron), a marketer of electric power, tendered for filing Notice of Cancellation of its Rate Schedule FERC No. 1, pursuant to Section 205 of the Federal Power Act, 16 U.S.C. § 824d (1994), and Section 35.15 of the Commission's regulations, 18 CFR 35.15.

J. Aron proposes for its cancellation to be effective on January 1, 2001.

Comment date: November 22, 2000, in accordance with Standard Paragraph E at the end of this notice.

10. PJM Interconnection, L.L.C.

[Docket No. ER01-343-000]

Take notice that on November 2, 2000, PJM Interconnection, L.L.C. (PJM), tendered for filing an executed interconnection service agreement between PJM and El Paso Merchant Energy L.P.

PJM requests a waiver of the Commission's 60-day notice requirement to permit the effective dates agreed to by the parties.

Copies of this filing were served upon El Paso Merchant Energy L.P., and the state electric utility regulatory commissions within the PJM control area.

Comment date: November 22, 2000, in accordance with Standard Paragraph E at the end of this notice.

11. Cinergy Services, Inc.

[Docket No. ER01-348-000]

Take notice that on November 2, 2000, Cinergy Services, Inc. (Cinergy), tendered for filing a Market-Based Service Agreement under Cinergy's Market-Based Power Sales Standard Tariff-MB (the Tariff) entered into between Cinergy and The Village of Bethel, Ohio (Bethel).

Cinergy and Bethel are requesting an effective date of January 1, 2001.

Comment date: November 22, 2000, in accordance with Standard Paragraph E at the end of this notice.

12. Cinergy Services, Inc.

[Docket No. ER01-347-000]

Take notice that on November 2, 2000, Cinergy Services, Inc. (Cinergy), tendered for filing a Market-Based Service Agreement under Cinergy's Market-Based Power Sales Standard Tariff-MB (the Tariff) entered into between Cinergy and The Village of Hamersville, Ohio (Hamersville).

Cinergy and Hamersville are requesting an effective date of January 1, 2001.

Comment date: November 22, 2000, in accordance with Standard Paragraph E at the end of this notice.

13. Cinergy Services, Inc.

[Docket No. ER01-346-000]

Take notice that on November 2, 2000, Cinergy Services, Inc. (Cinergy), tendered for filing a Market-Based Service Agreement under Cinergy's Market-Based Power Sales Standard Tariff-MB (the Tariff) entered into between Cinergy and Kenergy, Corp. (Kenergy).

Cinergy and Kenergy are requesting an effective date of January 1, 2001.

Comment date: November 22, 2000, in accordance with Standard Paragraph E at the end of this notice.

14. Cinergy Services, Inc.

[Docket No. ER01-345-000]

Take notice that on November 2, 2000, Cinergy Services, Inc. (Cinergy), tendered for filing a Market-Based Service Agreement under Cinergy's Market-Based Power Sales Standard Tariff-MB (the Tariff) entered into between Cinergy and The Village of Ripley, Ohio (Ripley).

Cinergy and Ripley are requesting an effective date of January 1, 2001.

Comment date: November 22, 2000, in accordance with Standard Paragraph E at the end of this notice.

15. Northern Indiana Public Service Company

[Docket No. ER01-344-000]

Take notice that on November 2, 2000, Northern Indiana Public Service Company (Northern Indiana), tendered a Service Agreement pursuant to its Wholesale Market-Based Rate Tariff with Entergy Power Marketing Corp., (EPMC).

Northern Indiana has requested an effective date of October 10, 2000.

Copies of this filing have been sent to EPMC, the Indiana Utility Regulatory Commission, and the Indiana Office of Utility Consumer Counselor.

Comment date: November 22, 2000, in accordance with Standard Paragraph E at the end of this notice.

16. Cinergy Services, Inc.

[Docket No. ER01-350-000]

Take notice that on November 2, 2000, Cinergy Services, Inc. (Cinergy), tendered for filing a Market-Based Service Agreement under Cinergy's Market-Based Power Sales Standard Tariff-MB (the Tariff) entered into between Cinergy and The Village of Georgetown, Ohio (Georgetown).

Cinergy and Georgetown are requesting an effective date of January 1, 2001.

Comment date: November 22, 2000, in accordance with Standard Paragraph E at the end of this notice.

17. Cinergy Services, Inc.

[Docket No. ER01-349-000]

Take notice that on November 1, 2000, Cinergy Services, Inc. (Cinergy), tendered for filing a Market-Based Service Agreement under Cinergy's Market-Based Power Sales Standard Tariff-MB (the Tariff) entered into between Cinergy and The Village of Blanchester, Ohio (Blanchester).

Cinergy and Blanchester are requesting an effective date of December 1, 2000.

Comment date: November 22, 2000, in accordance with Standard Paragraph E at the end of this notice.

18. Entergy Services, Inc.

[Docket No. ER00-2132-003]

Take notice that on November 1, 2000, Entergy Services, Inc., on behalf of Entergy Gulf States, Inc., tendered for filing a compliance Interconnection and Operating Agreement with Calcasieu Power, LLC, in accordance with the Commission's order in Entergy Services, Inc., 93 FERC ¶ 61,108 (2000).

Comment date: November 22, 2000, in accordance with Standard Paragraph E at the end of this notice.

19. American Transmission Company LLC

[Docket No. ER01-366-000]

Take notice that on November 2, 2000, American Transmission Company LLC (ATCLLC), tendered for filing Generator Interconnection agreements between ATCLLC and Wisconsin Electric Power for the following generators.

ATCLLC requests an effective date of January 1, 2001.

Big Quinnesec Falls Hydro Plant

Brule Hydro Plant

Chalk Hill Hydro Plant

Concord Power Plant

Germantown Power Plant

Michigamme Hydro Plant

Oak Creek Power Plant

Paris Power Plant

Peavy Falls Hydro Plant

Pine Hydro Plant

Pleasant Prairie Power Plant

Point Beach Power Plant

Port Washington Power Plant

Presque Isle Power Plant

Twin Falls Hydro Plant

Valley Power Plant

White Rapids Hydro Plant

Comment date: November 22, 2000, in accordance with Standard Paragraph E at the end of this notice.

20. NSTAR Services Company

[Docket No. ER01-369-000]

Take notice that on November 1, 2000, ISO New England Inc., tendered for filing a Report of Compliance relating to a Special Interim Market Rule in response to the Commission's July 26, 2000 Order in this proceeding, or, in the alternative, an emergency Market Rule change under Section 205 of the Federal Power Act.

Copies of said filing have been served upon all parties to this proceeding, upon NEPOOL Participants, and upon all non-Participant entities that are customers under the NEPOOL Open Access Transmission Tariff, as well as upon the governors and utility regulatory agencies of the six New England States.

Comment date: November 22, 2000, in accordance with Standard Paragraph E at the end of this notice.

21. NSTAR Services Company

[Docket No. ER01-368-000]

Take notice that on November 1, 2000, ISO New England Inc., tendered for filing a Report of Compliance relating to Market Rule 17, Market Monitoring, Reporting and Market Power Mitigation, in response to the Commission's July 26, 2000 Order in this proceeding.

Copies of said filing have been served upon all parties to this proceeding, upon NEPOOL Participants, and upon all non-Participant entities that are customers under the NEPOOL Open Access Transmission Tariff, as well as upon the utility regulatory agencies of the six New England States.

Comment date: November 22, 2000, in accordance with Standard Paragraph E at the end of this notice.

22. ISO New England Inc.

[Docket No. ER01-316-000]

Take notice that on November 1, 2000, ISO New England Inc. (ISO), tendered for filing proposed rates under Section 205 of the Federal Power Act for recovery of its administrative costs for 2001. The ISO requests that an Interim Tariff be allowed to go into effect on January 1, 2001, and a Tariff to go into effect upon issuance of a final Commission order.

Copies of the transmittal letter were served upon all Participants in the New England Power Pool (NEPOOL) and all non-Participant entities that are customers under the NEPOOL Open Access Transmission Tariff, as well as on the utility regulatory agencies of the six New England States. Participants were also served with the whole filing electronically and posted on the world-wide web.

Comment date: November 22, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-29549 Filed 11-17-00; 8:45 am]

BILLING CODE 6717-01-U